Proclamation 9585 of March 31, 2017

National Sexual Assault Awareness and Prevention Month, 2017

By the President of the United States of America

A Proclamation

At the heart of our country is the emphatic belief that every person has unique and infinite value. We dedicate each April to raising awareness about sexual abuse and recommitting ourselves to fighting it. Women, children, and men have inherent dignity that should never be violated.

According to the Department of Justice, on average there are more than 300,000 instances of rape or other sexual assault that afflict our neighbors and loved ones every year. Behind these painful statistics are real people whose lives are profoundly affected, at times shattered, and who are invariably in need of our help, commitment, and protection.

As we recognize National Sexual Assault Awareness and Prevention Month, we are reminded that we all share the responsibility to reduce and ultimately end sexual violence. As a Nation, we must develop meaningful strategies to eliminate these crimes, including increasing awareness of the problem in our communities, creating systems that protect vulnerable groups, and sharing successful prevention strategies.

My Administration, including the Department of Justice and the Department of Health and Human Services, will do everything in its power to protect women, children, and men from sexual violence. This includes supporting victims, preventing future abuse, and prosecuting offenders to the full extent of the law. I have already directed the Attorney General to create a task force on crime reduction and public safety. This task force will develop strategies to reduce crime and propose new legislation to fill gaps in existing laws.

Prevention means reducing the prevalence of sexual violence on our streets, in our homes, and in our schools and institutions. Recent research has demonstrated the effectiveness of changing social norms that accept or allow indifference to sexual violence. This can be done by engaging young people to step in and provide peer leadership against condoning violence, and by mobilizing men and boys as allies in preventing sexual and relationship violence. Our families, schools, and communities must encourage respect for women and children, who are the vast majority of victims, and promote healthy personal relationships. We must never give up the fight against the scourge of child pornography and its pernicious effects on both direct victims and the broader culture. We recommit ourselves this month to establishing a culture of respect and appreciation for the dignity of every human being.

There is tremendous work to be done. Together, we can and must protect our loved ones, families, campuses, and communities from the devastating and pervasive effects of sexual assault. In the face of sexual violence, we must commit to providing meaningful support and services for victims and survivors in the United States and around the world.

NOW, THEREFORE, I, DONALD J. TRUMP, President of the United States of America, by virtue of the authority vested in me by the Constitution and the laws of the United States, do hereby proclaim April 2017 as National Sexual Assault Awareness and Prevention Month. I urge all Americans, families, law enforcement, health care providers, community and faith-based organizations, and private organizations to support survivors of sexual assault and work together to prevent these crimes in their communities.

IN WITNESS WHEREOF, I have hereunto set my hand this thirty-first day of March, in the year of our Lord two thousand seventeen, and of the Independence of the United States of America the two hundred and forty-first.

[FR Doc. 2017-06948

Filed 4-4-17; 11:15 am]

Billing code 3295-F7-P